DEPARTMENT OF TRANSPORTATION

Federal Aviation Administration

14 CFR Part 39

[Docket No. FAA-2016-9357; Directorate Identifier 2016-CE-030-AD; Amendment 39-18798; AD 2017-04-03]

RIN 2120-AA64

Airworthiness Directives; Pilatus Aircraft Ltd. Airplanes

AGENCY: Federal Aviation Administration (FAA), Department of Transportation (DOT).

ACTION: Final rule.

SUMMARY: We are adopting a new airworthiness directive (AD) for Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes. This AD results from mandatory continuing airworthiness information (MCAI) issued by an aviation authority of another country to identify and correct an unsafe condition on an aviation product. The MCAI describes the unsafe condition as certain combinations of the aileron counterweight and the attaching parts possibly resulting in reduced thread engagement and leading to disconnection of the aileron counterweight from the aileron. We are issuing this AD to require actions to address the unsafe condition on these products.

DATES: This AD is effective April 7, 2017.

The Director of the Federal Register approved the incorporation by reference of a certain publication listed in the AD as of April 7, 2017.

ADDRESSES: You may examine the AD docket on the Internet at http://www.regulations.gov by searching for and locating Docket No. FAA-2016-9357; or in person at Document Management Facility, U.S. Department of Transportation, Docket Operations, M-30, West Building Ground Floor, Room W12-140, 1200 New Jersey Avenue SE., Washington, DC 20590.

For service information identified in this AD, contact Pilatus Aircraft Ltd., Customer Technical Support (MCC), P.O. Box 992, CH-6371 Stans, Switzerland; phone: +41 (0)41 619 3333; fax: +41 (0)41 619 7311; email: supportPC12@pilatus-aircraft.com; Internet: http://www.pilatus-aircraft.com. You may view this referenced service information at the FAA, Small Airplane Directorate, 901 Locust, Kansas City, Missouri 64106. For information on the availability of this material at the FAA, call (816) 329-4148. It is also available on the Internet at http://www.regulations.gov by searching for Docket No. FAA-2016-9357.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Discussion

We issued a notice of proposed rulemaking (NPRM) to amend 14 CFR part 39 by adding an AD that would apply to Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes. The NPRM was published in the Federal Register on November 4, 2016 (81 FR 76883). The NPRM proposed to correct an unsafe condition for the specified products and was based on mandatory continuing airworthiness information (MCAI) originated by an aviation authority of another country. The MCAI states:

The proper installation of the aileron counterweight requires a combination, peculiar to each aileron, of anchor nut types, bolt types, number of washers, and the definition of the bolt torque. Some combinations of counterweight and attaching parts, which could result in reduced thread engagement, have been reported on a PC-6 aeroplane.

This condition, if not detected and corrected, may lead to a disconnection of the aileron counterweight from the aileron, possibly resulting in reduced control of the aeroplane.

To address this potential unsafe condition, Pilatus issued Service Bulletin (SB) No. 57-006 (hereafter referred to as `the SB' in this AD) to provide inspection instructions.

For the reason described above, this AD requires identification and inspection of the affected aileron mass-balance counterweight attachment parts and, depending on findings, accomplishment of applicable corrective action(s).

The MCAI can be found in the AD docket on the Internet at: https://www.regulations.gov/document?D=FAA-2016-9357-0002.

Comments

We gave the public the opportunity to participate in developing this AD. The following presents the comment received on the proposal and the FAA's response to the comment.

Request for Clarification on the Unsafe Condition

Lukas Owens stated that in the event of loss of the ailerons, some degree of roll control is available by using the secondary effect of rudder. The requester stated that while not an efficient way to turn the aircraft, a pilot has at least some directional control and that short or rapid bursts of power may increase the effectiveness of the rudder to some degree, acting as a form of torque and slipstream effect. The requester asked why the AD change is needed or how it is justified.

We infer that the commenter, in addition to asking why the AD action is necessary and how it is justified, believes the AD action is not needed and is not justified. However, the commenter does not present solutions that address the unsafe condition of the mass balance weight potentially separating from the airplane. For this reason, we have not changed this AD based on this comment.

Conclusion

We reviewed the relevant data, considered the comment received, and determined that air safety and the public interest require adopting the AD as proposed except for minor editorial changes. We have determined that these minor changes:

• Are consistent with the intent that was proposed in the NPRM for correcting the unsafe condition; and

• Do not add any additional burden upon the public than was already proposed in the NPRM.

Related Service Information Under 1 CFR Part 51

Pilatus Aircraft Ltd. has issued Pilatus PC-6 Service Bulletin No. 57-006, dated May 13, 2016. The service information describes procedures for removal, installation, and inspection of the ailerons, aileron balance tabs, and the aileron counterweights and their attaching parts. This service information is reasonably available because the interested parties have access to it through their normal course of business or by the means identified in the ADDRESSES section of this document.

Costs of Compliance

We estimate that this AD will affect 30 products of U.S. registry. We also estimate that it would take about 2 work-hours per product to comply with the basic requirements of this AD. The average labor rate is $85 per work-hour. Required parts would cost about $100 per product.

Based on these figures, we estimate the cost of this AD on U.S. operators to be $8,100, or $270 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2016-9357; or in person at the Docket Management Facility between 9 a.m. and 5 p.m., Monday through Friday, except Federal holidays. The AD docket contains this AD, the NPRM, the regulatory evaluation, any comments received, and other information. The street address for the Docket Office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2017-04-03 Pilatus Aircraft Limited: Amendment 39-18798; Docket No. FAA-2016-9357; Directorate Identifier 2016-CE-030-AD.

(a) Effective Date

This airworthiness directive (AD) becomes effective April 7, 2017.

(b) Affected ADs

None.

(c) Applicability

This AD applies to PILATUS Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes, all manufacturer serial numbers (MSN), including MSN 2001 through 2092, certificated in any category.

Note 1 of paragraph (c) of this AD: For MSN 2001-2092, these airplanes are also identified as Fairchild Republic Company PC-6 airplanes, Fairchild Industries PC-6 airplanes, Fairchild Heli Porter PC-6 airplanes, or Fairchild-Hiller Corporation PC-6 airplanes.

(d) Subject

Air Transport Association of America (ATA) Code 57: Wings.

(e) Reason

This AD was prompted by mandatory continuing airworthiness information (MCAI) originated by an aviation authority of another country to identify and correct an unsafe condition on an aviation product. The MCAI describes the unsafe condition as certain combinations of the aileron counterweight and the attaching parts possibly resulting in reduced thread engagement and leading to disconnection of the aileron counterweight from the aileron. We are issuing this AD to prevent disconnection of the aileron counterweight from the aileron, which could result in loss of control.

(f) Actions and Compliance

Unless already done, do the following actions as specified in paragraphs (f)(1) and (2) of this AD:

(1) Within the next 12 months after April 7, 2017 (the effective date of this AD) or the next time the ailerons or aileron counterweights are removed or installed, whichever occurs first, and thereafter anytime the ailerons or aileron counterweights are removed or installed, remove each aileron counterweight to inspect the type and number of washers required for the installation of a counterweight on each aileron following the accomplishment instructions of paragraphs 3.B.(2) and 3.B.(3) of Pilatus PC-6 Service Bulletin (SB) No. 57-006, dated May 13, 2016.

(2) Before further flight after the inspection required by paragraph (f)(1) of this AD, reinstall each aileron counterweight on the airplane following the accomplishment instructions of paragraph 3.B.(3) of Pilatus PC-6 SB No. 57-006, dated May 13, 2016.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI EASA AD No.: 2016-0183, dated September 13, 2016, for related information. The MCAI can be found in the AD docket on the Internet at: https://www.regulations.gov/document?D=FAA-2016-9357-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pilatus PC-6 Service Bulletin (SB) No. 57-006, dated May 13, 2016.

(ii) Reserved.

(3) For Pilatus Aircraft Ltd. service information identified in this AD, contact Pilatus Aircraft Ltd., Customer Technical Support (MCC), P.O. Box 992, CH-6371 Stans, Switzerland; phone: +41 (0)41 619 3333; fax: +41 (0)41 619 7311; email: supportPC12@pilatus-aircraft.com; Internet: http://www.pilatus-aircraft.com.

(4) You may review this referenced service information at the FAA, Small Airplane Directorate, 901 Locust, Kansas City, Missouri 64106. For information on the availability of this material at the FAA, call (816) 329-4148. In addition, you can access this service information on the Internet at http://www.regulations.gov by searching for and locating Docket No. FAA-2016-9357.

(5) You may view this service information that is incorporated by reference at the National Archives and Records Administration (NARA). For information on the availability of this material at NARA, call 202-741-6030, or go to: http://www.archives.gov/federal-register/cfr/ibr-locations.html.

Issued in Kansas City, Missouri on February 8, 2016.
Robert Busto,
Acting Manager, Small Airplane Directorate, Aircraft Certification Service.

[FR Doc. 2017-03719 Filed 3-2-17; 8:45 am]

BILLING CODE 4910-13-P